DEPARTMENT OF COMMERCE

National Oceanic and Atmospheric Administration

[Docket No. 040112010-4114-02; I.D. 071306B]

Magnuson-Stevens Act Provisions; Fisheries of the Northeastern United States; Northeast Multispecies Fishery; Fishing Year 2006 Georges Bank Cod Hook Sector Operations Plan

AGENCY: National Marine Fisheries Service (NMFS), National Oceanic and Atmospheric Administration (NOAA), Commerce.

ACTION: Notice; approval of operations plan.

SUMMARY: NMFS announces approval of additional provisions of the 2006 Georges Bank (GB) Hook Sector (Sector) Operations Plan, consistent with regulations implementing Amendment 13, as modified by Framework Adjustment 40-B to the Northeast (NE) Multispecies Fishery Management Plan (FMP) for fishing year (FY) 2006. The intent is to allow regulated harvest of groundfish by the GB Cod Hook Sector (Sector), consistent with the objectives of the FMP.

DATES: Effective July 25, 2006 through April 30, 2007.

ADDRESSES: Copies of the Sector Operations Plan and the Supplemental Environmental Assessment (EA) are available upon request from the NE Regional Office at the following mailing address: George H. Darcy, Assistant Regional Administrator for Sustainable Fisheries, NMFS, Northeast Regional Office, 1 Blackburn Drive, Gloucester, MA 01930. These documents may also be requested by calling (978) 281-9135.

FOR FURTHER INFORMATION CONTACT: Mark Grant, Fishery Management Specialist, phone (978) 281-9145, fax (978) 281-9135, e-mail Mark.Grant@NOAA.gov.

SUPPLEMENTARY INFORMATION: The final rule implementing Amendment 13 to the FMP (69 FR 22906, April 27, 2004) specified a process for the formation of sectors within the NE multispecies fishery and the allocation of total allowable catch (TAC) for a specific groundfish species, implemented restrictions that apply to all sectors, authorized the Sector, established the GB Cod Hook Sector Area (Sector Area), and specified a formula for the allocation of GB cod TAC to the Sector. Framework Adjustment 40-B (70 FR 31323, June 1, 2005) modified that process by allowing any vessel, regardless of gear used in previous fishing years, to join the Sector. All landings of GB cod by Sector participants, regardless of gear previously used, are used to determine the Sector's GB cod allocation for a particular fishing year.

In accordance with the regulations that specify the process of Sector approval, on March 8, 2006, the Sector submitted to NMFS a final version of its 2006 Operations Plan, Sector Agreement, and a Supplemental EA that analyzes the impacts of the proposed Operations Plan. With three substantive exceptions, the proposed FY 2006 Sector Operations Plan contained the same elements as the approved FY 2005 Sector Operations Plan. These exceptions are proposed exemptions from the differential DAS counting requirements, from the DAS Leasing Program vessel size restrictions, and from the 72-hr observer notification requirement. Rationale by the Sector for these proposed exemptions can be found in the Federal Register notice soliciting public comment on the FY 2006 GB Cod Hook Sector Operations Plan and Agreement (71 FR 16122, March 30, 2006).

NMFS previously approved the continuation of all provisions from the FY 2005 Sector Operations Plan for FY 2006 and approved the exemption from the 72-hr observer notification requirement (71 FR 25569, May 1, 2006). Based on public comment, and given the importance of effort control in the NE multispecies fishery, NMFS withheld approval of exemptions from differential DAS counting and DAS Leasing Program vessel size restrictions until the New England Fishery Management Council (Council) had the opportunity to discuss the merit of such exemptions.

At its June 13-15, 2006, meeting, the Council discussed the exemptions from differential DAS counting and the DAS Leasing Program size restrictions and considered the Sector's rationale for these exemptions. Both exemptions were endorsed by the Council, for FY 2006 only, without opposition. After consideration of the proposed Sector Agreement, which contains the Sector Contract and Operations Plan, NMFS has concluded that the Sector Agreement, including the proposed exemptions from differential DAS counting and DAS Leasing Program vessel size restrictions, is consistent with the goals of the FMP and other applicable law and is in compliance with the regulations governing the development and operation of a sector as specified under 50 CFR 648.87. Accordingly, NMFS is granting the Sector exemptions from differential DAS counting and the vessel size restrictions of the DAS Leasing Program.

Revised Letters of Authorization will be issued to members of the Sector that will include the following additional exemptions, conditional upon their compliance with the 2006 Sector Agreement: Differential DAS counting as specified at § 648.82(n)(2)(i), and the vessel size restrictions of the DAS Leasing Program as specified at § 648.82(t)(2)(ix).

Authority: 16 U.S.C. 1801 et seq.

Dated: July 19, 2006.
Alan D. Risenhoover,
Acting Director, Office of Sustainable Fisheries, National Marine Fisheries Service.

[FR Doc. 06-6450 Filed 7-20-06; 2:18 pm]

BILLING CODE 3510-22-S